DEPARTMENT OF COMMERCE

National Oceanic and Atmospheric Administration

[RTID 0648-XE742]

Notice of Receipt of the Makah Tribe's Permit Request for a Ceremonial and Subsistence Hunt of Eastern North Pacific Gray Whales

AGENCY: National Marine Fisheries Service (NMFS), National Oceanic and Atmospheric Administration (NOAA), Commerce.

ACTION: Notice; receipt of application.

SUMMARY: Notice is hereby given that the Makah Indian Tribe has applied in due form for a permit for a ceremonial and subsistence hunt of eastern North Pacific (ENP) gray whales (Eschrichtius robustus).

DATES: Written comments on the permit application must be received on or before May 5, 2025.

ADDRESSES: Electronic copies of the application and supporting documents may be obtained online at: https://www.fisheries.noaa.gov/resource/document/makah-tribe-permit-application-hunt-gray-whales. Comments on the permit application, including written data and views, may be submitted electronically, identified by NOAA-NMFS-2025-0025, by any of the following methods:

• Electronic Submission: Submit electronic public comments via the Federal e-Rulemaking Portal https://www.regulations.gov. To submit comments via the e-Rulemaking Portal, enter NOAA-NMFS-2025-0025 in the keyword search. Locate the document you wish to comment on from the resulting list and click on the “Comment Now” icon on the right of that line.

• Mail: Comments on the application should be addressed to: NMFS West Coast Region, Protected Resources Division, 7600 Sand Point Way NE, Building 1, Seattle, WA 98117.

Instructions: Comments sent by any other method, to any other address or individual, or received after the end of the comment period, may not be considered by NMFS. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word, Excel, or Adobe PDF file formats only.

Those individuals requesting a public hearing should submit a written request electronically via the method above or by email (see FOR FURTHER INFORMATION CONTACT). The request must be received on or before April 18, 2025 and should set forth the specific reasons why a hearing on this application would be advisable.

FOR FURTHER INFORMATION CONTACT: Grace Ferrara, NMFS West Coast Region Protected Resources Division, by email at MakahPermit.WCR@noaa.gov or by phone at 206-526-6172.

SUPPLEMENTARY INFORMATION: The subject permit is requested under the Marine Mammal Protection Act of 1972, as amended (MMPA; 16 U.S.C. 1361 et seq.) and the regulations governing the taking of ENP gray whales by the Makah Indian Tribe off the coast of Washington State (50 CFR part 216, subpart J). The applicant, the Makah Indian Tribe, proposes to conduct a ceremonial and subsistence hunt consistent with the purposes of the MMPA and the regulations at 50 CFR part 216, subpart J. The Tribe proposes using both traditional methods (e.g., a wooden canoe and harpoon) and modern methods (motorized vessels and rifles) to conduct the hunt, in order to balance the preservation of traditional cultural methods with maximizing the safety, efficiency, and humaneness of the hunt. The duration of the requested permit is 28 months, lasting from July 1, 2025 through October 31, 2027. The Tribe proposes to conduct training and hunting activities between July 1st and October 31st in 2025 and 2027. In each of those two years, the Tribe requests a maximum of 142 ENP gray whales to be approached, a maximum of 12 to be subjected to unsuccessful strike attempts or training harpoon throws, a maximum of 2 to be struck, and a maximum of 1 to be landed. All proposed hunting and training activities would take place in the Makah Tribe's usual and accustomed fishing grounds west of the Bonilla-Tatoosh Line as defined by 50 CFR 216.112.

For more information on the proposed method of taking, including the training and certification procedures for the members of the whaling crew, refer to the permit application and supporting materials available at https://www.fisheries.noaa.gov/resource/document/makah-tribe-permit-application-hunt-gray-whales. Section 104 of the MMPA governs the issuance of permits for the taking of marine mammals, and outlines specific procedures and timelines under which the permitting process must be conducted (16 U.S.C. 1374). NMFS is required to invite interested parties to submit written comments, data, or views within thirty days of the publication of a notice of receipt of a permit application in the Federal Register (50 CFR 216.33(d)(4)). Here, we have afforded interested parties forty-five days to submit comments, data, or views by mail, email, or through the regulations.gov portal. Due to the timeline set forth under Section 104, we anticipate we will be unable to extend this comment period beyond forty-five days.

In compliance with the National Environmental Policy Act of 1969 (42 U.S.C. 4321 et seq.), an initial determination has been made that the proposed issuance of the requested permit and resulting effects have been thoroughly evaluated in the Final Environmental Impact Statement (FEIS) on the Makah Tribe Request to Hunt Gray Whales (NMFS 2023). The FEIS is available electronically at https://s3.amazonaws.com/media.fisheries.noaa.gov/2023-11/makah-waiver-feis-110923.pdf.

Concurrent with the publication of this notice in the Federal Register, NMFS is forwarding copies of the application to the Marine Mammal Commission and its Committee of Scientific Advisors.

Dated: March 14, 2025.
Catherine Marzin,
Acting Director, Office of Protected Resources, National Marine Fisheries Service.

[FR Doc. 2025-04634 Filed 3-18-25; 8:45 am]

BILLING CODE 3510-22-P